SMALL BUSINESS ADMINISTRATION

[Disaster Declaration # 11370]

New Hampshire Disaster Number NH-00006

AGENCY: U.S. Small Business Administration.

ACTION: Amendment 1.

SUMMARY: This is an amendment of the Presidential declaration of a major disaster for Public Assistance Only for the State of New Hampshire ( FEMA-1782-DR ), dated 08/11/2008.

Incident: Severe Storms, Tornado, and Flooding.

Incident Period: 07/24/2008.

Effective Date: 08/20/2008.

Physical Loan Application Deadline Date: 10/10/2008.

Economic Injury (EIDL) Loan Application Deadline Date: 05/11/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of New Hampshire, dated 08/11/2008, is hereby amended to include the following areas as adversely affected by the disaster.

Primary Counties: Merrimack, Strafford.

Contiguous Counties (Economic Injury Loans Only):

New Hampshire: Sullivan.

All other information in the original declaration remains unchanged.

(Catalog of Federal Domestic Assistance Number 59008)

James E. Rivera,
Acting Associate Administrator for Disaster Assistance.

[FR Doc. E8-20129 Filed 8-28-08; 8:45 am]

BILLING CODE 8025-01-P